CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed Grant Application Review Process (GARP) Evaluation. Peer Reviewers and Facilitators in order to provide feedback and criticism of the peer review portion of the GARP will use this evaluation in order for the Corporation to provide continuous improvement to the process.

Copies of the information collection requests can be obtained by contacting the office listed in the address section of this notice.

DATES: Written comments must be submitted to the individual and office listed in the ADDRESSES section by January 9, 2006.

ADDRESSES: You may submit comments, identified by the title of the information collection activity, by any of the following methods:

(1) By mail sent to: Corporation for National and Community Service, Office of Grants Policy and Operations; Attention Ms. Shelly Ryan, Coordinator, Grant Reviews; 522 North Central Avenue, Suite 205A, Phoenix, AZ 85004.

(2) By hand delivery or by courier to the Corporation's mailroom at Room 8102-C at the Corporation for National and Community Service at 1201 New York Avenue, NW, Washington, DC 20525, between 9 a.m. and 4 p.m. Monday through Friday, except Federal holidays.

(3) By fax to: (602) 379-4030, Attention Ms. Shelly Ryan, Office of Grants Policy and Operations.

(4) Electronically through the Corporation's e-mail address system: GARPevaluation@cns.gov.

FOR FURTHER INFORMATION CONTACT: Shelly Ryan, (602) 379-4083 or by e-mail at GARPevaluation@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Description

The purpose of these Evaluations is to assist the Corporation in identifying areas of improvement in its peer review process. Peer Reviewers and Facilitators assist in the rating and selection of applications submitted to various Corporation competitions. These forms would collect the suggestions, comments and ideas from those participating in the peer review process to better inform how it could be improved in future reviews.

Current Action

The Corporation seeks to create evaluations in eGrants. The evaluations will include questions that provide feedback about the review process, feedback on reviewers and facilitators, and general comments about the quality of the applications.

Type of Review: New.

Agency: Corporation for National and Community Service.

Title: Grant Application Review Process Evaluation.

OMB Number: New.

Agency Number: None.

Affected Public: People chosen to be peer reviewers and facilitators.

Total Respondents: 300.

Frequency: On occasion.

Average Time Per Response: 30 minutes (½ hour).

Estimated Total Burden Hours: 150 hours.

Total Burden Cost (capital/startup): None.

Total Burden Cost (operating/maintenance): None.

Comments submitted in response to this notice will be summarized and/or included in the request for Office of Management and Budget approval of the information collection request; they will also become a matter of public record.

Dated: October 21, 2005.
Marlene Zakai,
Director, Office Grants Policy and Operations.

[FR Doc. 05-22386 Filed 11-9-05; 8:45 am]

BILLING CODE 6050-$$-P